DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. * Elevation in feet (NGVD) •Elevation in feet (NAVD)
NORTH CAROLINA
Franklin County (FEMA Docket No. D-7562)
Basin 10, Stream 14:
Approximately 150 feet downstream of the County boundary | •306
Approximately 1.3 miles upstream of the County boundary | •379
Franklin County (Unincorporated Areas)
Bear Swamp Creek:
Approximately 1,500 feet downstream of Dyking Road | •212
Approximately 2.1 miles upstream of Dyking Road | •229
Franklin County (Unincorporated Areas)
Beaverdam Creek (Basin 11, Stream 3):
At the confluence with Moccasin Creek | •226
Approximately 200 feet upstream of the confluence with Moccasin Creek | •226
Franklin County (Unincorporated Areas)
Big Branch Creek:
At the confluence with Cedar Creek | •193
Approximately 1 mile upstream of Sam Horton Road | •243
Franklin County (Unincorporated Areas)
Big Peachtree Creek:
At the County boundary | •204
Approximately 1.2 miles upstream of Gardner Road | •234
Franklin County (Unincorporated Areas)
Big Peachtree Creek Tributary:
At the confluence with Big Peachtree Creek | •208
Approximately 0.9 mile upstream of the confluence with Big Peachtree Creek | •231
Franklin County (Unincorporated Areas)
Billys Creek:
Approximately 1,180 feet upstream of the confluence with the Tar River | •226
Approximately 1.9 miles upstream of the confluence with the Tar River | •243
Franklin County (Unincorporated Areas)
Brandy Creek:
At the confluence with Cedar Creek | •275
Approximately 425 feet upstream of Park Avenue | •381
Franklin County (Unincorporated Areas), Town of Youngsville
Brandy Creek Tributary:
At the confluence with Brandy Creek | •310
Approximately 0.7 mile upstream of the confluence with Brandy Creek | •333
Franklin County (Unincorporated Areas)
Buffalo Creek South:
Approximately 0.5 mile upstream of the confluence with the Tar River | •213
Approximately 2.7 miles upstream of West River Road | •247
Franklin County (Unincorporated Areas)
Buffalo Creek:
At the confluence with Sandy Creek | •271
Approximately 2.5 miles upstream of U.S. 401 | •355
Franklin County (Unincorporated Areas)
Buffalo Creek Tributary 1:
At the confluence with Buffalo Creek | •283
Approximately 700 feet upstream of Tollie Weldon Road | •327
Franklin County (Unincorporated Areas)
Camping Creek:
At the confluence with Cedar Creek | •231
Approximately 0.7 mile upstream of Hart Road | •300
Franklin County (Unincorporated Areas)
Camping Creek Tributary 1:
At the confluence with Camping Creek | •264
Approximately 0.7 mile upstream of the confluence with Camping Creek | •286
Cedar Creek:
Approximately 0.8 mile upstream of the confluence with the Tar River | •193
Approximately 1.1 miles upstream of Pocomoke Road | •427
Cedar Creek Tributary 1:
At the confluence with Cedar Creek | •212
Approximately 1.5 miles upstream of Bennette Perry Road | •252
Franklin County (Unincorporated Areas)
Cedar Creek Tributary 2:
At the confluence with Cedar Creek | •269
Approximately 0.8 mile upstream of Hill Road | •338
Franklin County (Unincorporated Areas)
Cedar Creek Tributary 3:
At the confluence with Cedar Creek | •305
Approximately 0.4 mile downstream of Long Mill Road | •380
Franklin County (Unincorporated Areas)
Crooked Creek:
Approximately 80 feet downstream of NC 98 | •174
Approximately 0.9 mile upstream of Moores Pond Road | •375
Franklin County (Unincorporated Areas), Town of Bunn
Crooked Creek Tributary 1:
At the confluence with Crooked Creek | •193
Approximately 1.4 miles upstream of Pearces Road | •241
Franklin County (Unincorporated Areas), Town of Bunn
Crooked Creek Tributary 2:
At the confluence with Crooked Creek | •234
Approximately 1.2 miles upstream of the confluence with Crooked Creek | •270
Franklin County (Unincorporated Areas)
Crooked Creek Tributary 3:
At the confluence with Crooked Creek | •266
Approximately 0.6 mile upstream of U.S. 401 | •330
Franklin County (Unincorporated Areas)
Crooked Creek Tributary 4:
At the confluence with Crooked Creek Tributary 3 | •270
Approximately 0.9 mile upstream of the confluence with Crooked Creek Tributary 3 | •325
Franklin County (Unincorporated Areas)
Cypress Creek:
At the confluence with the Tar River | •171
Approximately 1.6 miles upstream of NC 56 | •260
Approximately 1.2 miles upstream of the confluence with the Tar River | •170
Franklin County (Unincorporated Areas), Town of Youngsville
Deer Branch:
At the confluence with Sandy Creek | •185
Approximately 1,200 feet upstream of NC 58 | •249
Franklin County (Unincorporated Areas)
Devils Cradle Creek:
At the confluence with Sandy Creek | •251
Approximately 1.9 miles upstream of NC 39 | •379
Franklin County (Unincorporated Areas)
Fishing Creek:
Approximately 1,450 feet upstream of NC 561 | •165
Approximately 1.1 miles upstream of NC 561 | •166
Franklin County (Unincorporated Areas)
Flatrock Creek:
At the confluence with Devils Cradle Creek | •264
Approximately 2.6 miles upstream of Lake View Road | •398
Franklin County (Unincorporated Areas)
Fox Creek:
Approximately 0.5 mile upstream of NC 56/NC 581 | •204
Approximately 0.9 mile upstream of NC 561 | •225
Franklin County (Unincorporated Areas), Town of Louisburg
Giles Creek:
At the confluence with Tooles Creek | •238
Approximately 0.9 mile upstream of the confluence with Tooles Creek | •254
Franklin County (Unincorporated Areas)
Hattles Branch:
At the confluence with Richland Creek | •314
Approximately 100 feet downstream of South College Street | •396
Franklin County (Unincorporated Areas)
Horse Creek:
At the downstream County boundary | •342
Approximately 225 feet upstream of Nottingham Court | •387
Franklin County (Unincorporated Areas)
Jumping Run:
Approximately 0.6 mile downstream of East River Road | •195
Approximately 975 feet upstream of East River Road | •204
Franklin County (Unincorporated Areas)
Little River:
At the downstream County boundary | •325
Approximately 900 feet upstream of Martindale Drive | •430
Franklin County (Unincorporated Areas), Town of Youngsville
Little Shocco Creek:
At the confluence with Shocco Creek | •206
Approximately 2.3 miles upstream of Rod Alston Road | •258
Franklin County (Unincorporated Areas)
Long Branch:
At the confluence with Cypress Creek | •236
Approximately 1.4 miles upstream of the confluence with Cypress Creek | •265
Franklin County (Unincorporated Areas)
Lynch Creek:
Approximately 0.5 mile downstream of Dyking Road | •213
At the County boundary | •332
Franklin County (Unincorporated Areas)
Middle Creek:
Approximately 1,200 feet upstream of Green Hill Road | •242
Approximately 1.8 miles upstream of Green Hill Road | •257
Franklin County (Unincorporated Areas)
Moccasin Creek:
At Interstate 264 | •219
Approximately 0.7 mile upstream of Henry Baker Road | •307
Franklin County (Unincorporated Areas)
Moccasin Creek Tributary 3:
At the confluence with Moccasin Creek | •269
Approximately 0.4 mile upstream of Old Halifax Road | •368
Franklin County (Unincorporated Areas)
Norris Creek:
At the confluence with Crooked Creek | •181
Approximately 450 feet upstream of Bethlehem Church | •331
Franklin County (Unincorporated Areas)
Norris Creek Tributary 1:
At the confluence with Norris Creek | •197
Approximately 0.9 mile upstream of Johnson Town Road | •237
Franklin County (Unincorporated Areas)
Press Prong Tributary 1:
At the County boundary | •241
Approximately 0.9 mile upstream of Tant Road | •273
Franklin County (Unincorporated Areas)
Red Bud Creek:
Approximately 1.4 miles downstream of NC 58 | •194
Approximately 4.2 miles upstream of NC 58 | •254
Franklin County (Unincorporated Areas)
Richland Creek:
At the County boundary | •301
Approximately 1.0 mile upstream of the confluence of Hattles Branch | •358
Franklin County (Unincorporated Areas), Town of Youngsville
Sandy Creek:
At the downstream County boundary | •184
Approximately 1 mile upstream of Hightower Road | •281
Franklin County (Unincorporated Areas)
Sandy Creek Tributary 1:
At the confluence with Sandy Creek | •187
Approximately 1.3 miles upstream of Reed Road | •209
Franklin County (Unincorporated Areas)
Sandy Creek Tributary 2:
At the confluence with Sandy Creek | •193
Approximately 0.8 mile upstream of the confluence with Sandy Creek | •209
Franklin County (Unincorporated Areas)
Sandy Creek Tributary 3:
At the confluence with Sandy Creek | •205
Approximately 630 feet upstream of Douglas Williams Road | •263
Franklin County (Unincorporated Areas)
Sandy Creek Tributary 4:
At the confluence with Sandy Creek Tributary 3 | •207
Approximately 230 feet upstream of JB Leonard Road | •231
Franklin County (Unincorporated Areas)
Sandy Creek Tributary 5:
At the confluence with Sandy Creek | •206
Approximately 1.3 miles upstream of NC 561 | •314
Franklin County (Unincorporated Areas)
Sandy Creek Tributary 6:
At the confluence with Sandy Creek | •212
Approximately 500 feet upstream of Raymond Tharrington Road | •257
Franklin County (Unincorporated Areas)
Sandy Creek Tributary 7:
At the confluence with Sandy Creek | •236
Approximately 1.4 miles upstream of Person Road | •500
Franklin County (Unincorporated Areas)
Sandy Creek Tributary 8:
At the confluence with Sandy Creek Tributary 7 | 248
Approximately 1.1 miles upstream of the confluence with Sandy Creek Tributary 7 | •284
Franklin County (Unincorporated Areas)
Sandy Creek Tributary 9:
At the confluence with Sandy Creek | •250
Approximately 0.4 mile upstream of the confluence with Sandy Creek | •251
Franklin County (Unincorporated Areas)
Sandy Creek Tributary 10:
At the confluence with Sandy Creek | •265
Approximately 0.8 mile upstream of the confluence with Sandy Creek | •279
Franklin County (Unincorporated Areas)
Sandy Creek Tributary 13:
At the confluence with Sandy Creek | •215
Approximately 0.6 mile upstream of the confluence of Sandy Creek Tributary 15 | •270
Franklin County (Unincorporated Areas)
Sandy Creek Tributary 14:
At the confluence with Sandy Creek Tributary 13 | •231
Approximately 1.2 miles upstream of the confluence with Sandy Creek Tributary 13 | •277
Franklin County (Unincorporated Areas)
Sandy Creek Tributary 15:
At the confluence with Sandy Creek Tributary 13 | •262
Approximately 0.4 mile upstream of the confluence with Sandy Creek Tributary 13 | •270
Franklin County (Unincorporated Areas)
Shocco Creek:
At the confluence of Fishing Creek | •166
Approximately 4.1 miles upstream of NC 58 | •206
Franklin County (Unincorporated Areas)
Sycamore Creek:
Approximately 1,000 feet downstream of East River Road | •200
Approximately 1,400 feet downstream of Ronald Tharrington Road | •236
Franklin County (Unincorporated Areas)
Tar River:
Approximately 390 feet downstream of the confluence of Cypress Creek | •170
Approximately 600 feet upstream of the confluence of Cypress Creek | •170
Franklin County (Unincorporated Areas)
Tar River Tributary 1:
Approximately 500 feet upstream of the confluence with the Tar River | •197
Approximately 0.9 mile upstream of George Leonard Road | •209
Franklin County (Unincorporated Areas)
Taylors Creek:
Approximately 750 feet upstream of the confluence with the Tar River | •234
Approximately 1.6 miles upstream of the confluence with the Tar River | •240
Franklin County (Unincorporated Areas)
Tooles Creek:
At the confluence with Lynch Creek | •213
Approximately 100 feet downstream of Joe Ward Road | •310
Franklin County (Unincorporated Areas)
Turkey Creek:
Approximately 800 feet upstream of the confluence of Turkey Creek Tributary 1 | •253
Approximately 1.4 miles upstream of Interstate 64 | •320
Franklin County (Unincorporated Areas)
Turkey Creek Tributary 1:
Approximately 450 feet upstream of the confluence with Turkey Creek | •253
Approximately 0.5 mile upstream of Interstate 64 | •319
Franklin County (Unincorporated Areas)
Wolfharbor Branch:
At the confluence with Turkey Creek | •261
Approximately 1.5 miles upstream of Carlyle Road | •335
Franklin County (Unincorporated Areas)
Wolfpen Branch:
Approximately 0.6 mile upstream of the confluence with the Tar River | •197
Approximately 450 feet downstream of NC 39 | •212
Franklin County (Unincorporated Areas), Town of Louisburg
Franklin County (Unincorporated Areas)
Maps available for inspection at the Franklin County GIS Department, 215 East Nash Street, Louisburg, North Carolina.
———
Town of Bunn
Maps available for inpsection at the Bunn Town Hall, 601 Main Street, Bunn, North Carolina.
———
Town of Franklinton
Maps available for inspection at the Franklinton Town Hall, 7 West Mason Street, Franklinton, North Carolina.
———
Town of Louisburg
Maps available for inpsection at the Louisburg Town Hall, 110 West Nash Street, Louisburg North Carolina.
———
Town of Youngsville
Maps available for inpsection at the Youngsville Town Hall, 118 North Carolina.
———
Greene County (FEMA Docket No. D-7562)
Contentnea Creek:
At the Greene/Pitt County boundary | •31
Approximately 1.2 miles upstream of Hugo Road | •33
Towns of Hookerton and Snow Hill, Greene County (Unincorporated Areas)
Appletree Swamp:
At 1 Arm Edwards Road | •75
At the Greene/Wayne County boundary | •86
Greene County (Unincorporated Areas)
Appletree Swamp Tributary:
At the confluence with Appletree Swamp | •83
Approximately 0.5 mile upstream of the confluence with Appletree Swamp | •88
Greene County (Unincorporated Areas)
Button Branch:
At the Greene/Wayne County boundary | •69
Approximately 1,500 feet upstream of Wayne Road | •84
Greene County (Unincorporated Areas)
Fort Run:
Approximately 0.8 mile upstream of the confluence with Contentnea Creek | •51
Approximately 0.8 mile upstream of Gurganus Road | •87
Greene County (Unincorporated Areas)
Lewis Branch:
At the confluence with Fort Run | •64
Approximately 0.8 mile upstream of the confluence with Fort Run | •75
Greene County (Unincorporated Areas)
Middle Swamp:
At the upstream side of U.S. Route 258 | •63
Approximately 2.0 miles upstream of U.S. Route 258 | •68
Greene County (Unincorporated Areas)
Rainbow Creek:
Approximately 0.6 mile upstream of the confluence with Contentnea Creek | •38
Approximately 0.6 mile upstream of U.S. Route 258 | •76
Greene County (Unincorporated Areas)
Reeders Fork:
At the confluence with Tyson Marsh | •56
Approximately 0.3 mile upstream of Burrfield Road | •86
Greene County (Unincorporated Areas)
Reedy Branch:
At the confluence with Tyson Marsh | •60
Approximately 1.4 miles upstream of the confluence with Tyson Marsh | •77
Greene County (Unincorporated Areas)
Sandy Run:
Approximately 0.5 mile upstream of Sterfarm Road | •44
Approximately 800 feet downstream of State Route 1324 | •74
Greene County (Unincorporated Areas)
Tyson Marsh:
Approximately 1,600 feet upstream of Highway 58 | •49
Approximately 0.5 mile upstream of Gray Turnage Road | •78
Town of Snow Hill, Greene County (Unincorporated Areas)
Watery Branch:
Approximately 0.5 mile upstream of the confluence with Contentnea Creek | •62
At the Greene/Wayne County boundary | •74
Greene County (Unincorporated Areas)
Wheat Swamp:
Approximately 0.5 mile upstream of the confluence with Contentnea Creek | •36
Approximately 1.2 miles upstream of Sugg Road | •77
Greene County (Unincorporated Areas)
Wheat Swamp Tributary:
At the confluence with Wheat Swamp | •40
At the Greene/Lenoir County boundary | •40
Greene County (Unincorporated Areas)
Town of Hookerton
Maps available for inspection at the Hookerton Town Hall, 227 East Main Street, Hookerton, North Carolina.
———
Town of Snow Hill
Maps available for inspection at the Snow Hill Town Hall, 201 North Greene Street, Snow Hill, North Carolina.
———
Unincorporated Areas of Greene County
Maps available for inspection at the Greene County Inspections Office, 229 Kingold Boulevard, Snow Hill, North Carolina.
———
Mecklenburg County
Back Creek:
Approximately 125 feet downstream of the confluence of Back Creek Tributary | •614
Approximately 0.7 mile upstream of W. T. Harris Boulevard | •714
City of Charlotte, Mecklenburg County (Unincorporated Areas)
Back Creek Tributary:
At the confluence with Back Creek | •617
Approximately 250 feet upstream of Back Creek Church Road | •695
Mecklenburg County (Unincorporated Areas)
Beaverdam Creek:
At the confluence with Lake Wylie | •571
Approximately 2 miles upstream of Dixie River Road | •639
Mecklenburg County (Unincorporated Areas)
Beaverdam Creek Tributary:
At the confluence with Beaverdam Creek | •576
Approximately 1.2 miles upstream of the confluence with Beaverdam Creek | •603
Mecklenburg County (Unincorporated Areas)
Blankmanship Branch:
At the South Carolina State boundary | •616
Approximately 50 feet upstream of Steele Creek Road | •636
Mecklenburg County (Unincorporated Areas)
Briar Creek:
At the confluence with Little Sugar Creek | •593
Approximately 500 feet upstream of Plaza Road | •708
City of Charlotte
Briar Creek Tributary 1:
At the confluence with Briar Creek | •594
Approximately 400 feet upstream of Colony Road | •618
City of Charlotte
Briar Creek Tributary 2:
At the confluence with Briar Creek | •692
Approximately 530 feet upstream of Galway Drive | •707
City of Charlotte
Caldwell Creek:
At the Cabarrus County Line | •623
Approximately 0.9 mile upstream of Cabarrus County Line | •664
Mecklenburg County (Unincorporated Areas)
Caldwell Station:
At the confluence with McDowell Creek | •699
Approximately 0.4 mile upstream of Statesville Road | •719
Town of Huntersville, Mecklenburg County (Unincorporated Areas)
Campbell Creek:
At the confluence with McAlpine Creek | •592
Approximately 0.4 mile upstream of Statesville Road | •715
City of Charlotte
Cane Creek:
At the confluence with South Prong Clarke Creek | •651
Approximately 2.2 miles upstream of the confluence with South Prong Clark Creek | •700
Town of Huntersville, Mecklenburg County (Unincorporated Areas)
Catawba River:
Approximately 1.8 miles upstream of York County/South Carolina boundary | •570
At Cowans Ford Dam | •670
Mecklenburg County (Unincorporated Areas)
Catawba River Tributary 1:
At the confluence with Catawba River | •574
Approximately 1.1 miles upstream of the confluence with the Catawba River | •600
Mecklenburg County (Unincorporated Areas)
Catawba River Tributary 2:
Approximately 0.6 mile upstream of the confluence of Catawba River | •578
Approximately 0.7 mile upstream of Hardwood Lane | •634
Mecklenburg County (Unincorporated Areas)
Catawba River Tributary 3:
At the confluence with Catawba River | •664
Approximately 75 feet upstream of Cashion Road | •691
Mecklenburg County (Unincorporated Areas)
Clarke Creek:
Approximately 1,680 feet downstream of the confluence of Ramah Creek | •630
At the confluence of South Prong Clarke Creek/North Prong Clarke Creek | •637
Mecklenburg County (Unincorporated Areas)
Clarke Creek Tributary:
Approximately 0.4 mile downstream of Highland Creek Parkway | •630
Approximately 1.1 miles upstream of Highland Creek Parkway | •708
City of Charlotte, Mecklenburg County (Unincorporated Areas)
Clarks Creek:
At the confluence of Mallard Creek | •631
Approximately 530 feet upstream of Dearmon Road | •739
City of Charlotte, Mecklenburg County (Unincorporated Areas)
Clarks Creek Tributary 1:
At the confluence with Clarks Creek | •710
Approximately 0.5 mile upstream of Hucks Road | •741
City of Charlotte, Mecklenburg County (Unincorporated Areas)
Clarks Creek Tributary 1A:
At the confluence with Clarks Creek Tributary 1 | •727
Approximately 1,900 feet upstream of Davis Lake Parkway | •780
City of Charlotte, Mecklenburg County (Unincorporated Areas)
Clear Creek:
At County boundary | •535
Approximately 1.0 mile upstream of the confluence of Clear Creek Tributary | •661
Town of Mint Hill, Mecklenburg County (Unincorporated Areas)
Clear Creek Tributary:
Approximately 400 feet upstream of the confluence with Clear Creek | •624
Approximately 1,650 feet upstream of Truelight Church Road | •683
Town of Mint Hill, Mecklenburg County (Unincorporated Areas)
Clems Branch:
At the Lancaster County boundary | •567
Approximately 150 feet upstream of Lancaster Highway | •588
Mecklenburg County (Unincorporated Areas)
Coffey Creek:
At the confluence with Sugar Creek | •575
Approximately 0.7 mile upstream of West Boulevard | •663
City of Charlotte, Mecklenburg County (Unincorporated Areas)
Dairy Branch:
Approximately 250 feet upstream of confluence with Little Sugar Creek | •622
Approximately 170 feet upstream of Scott Avenue | •657
City of Charlotte
Derita Branch:
At confluence with Little Sugar Creek | •690
Approximately 0.6 mile upstream of West Craighead Road | •729
City of Charlotte
Dixon Branch:
At the confluence with Long Creek | •711
Approximately 1,450 feet upstream of the confluence of Dixon Branch Tributary | •731
Mecklenburg County (Unincorporated Areas)
Dixon Branch Tributary:
At the confluence with Dixon Branch | •725
Approximately 0.27 mile upstream of Statesville Road | •749
Mecklenburg County (Unincorporated Areas)
Doby Creek:
At the confluence with Mallard Creek | •610
Approximately 1.4 miles upstream of Governors Village Middle School | •708
City of Charlotte
Doby Creek Tributary:
At the confluence with Doby Creek | •612
Approximately 640 feet upstream of IBM Drive | •655
City of Charlotte, Mecklenburg County (Unincorporated Areas)
Duck Creek:
At the County boundary | •575
Approximately 1.0 mile upstream of County boundary | •607
Mecklenburg County (Unincorporated Areas)
Edwards Branch:
At the confluence with Briar Creek | •656
Approximately 400 feet upstream of Sheffield Drive | •700
City of Charlotte
Ferrelltown Creek:
At the confluence with Clarke Creek | •633
Approximately 1.4 miles upstream of the confluence with Clarke Creek: | •666
Mecklenburg County (Unincorporated Areas)
Flat Branch:
At the confluence with Sixmile Creek | •589
Approximately 0.8 mile upstream of Tom Short Road | •640
City of Charlotte, Mecklenburg County (Unincorporated Areas)
Fourmile Creek:
At the confluence with McAlpine Creek | •541
At downstream side of E. John Street | •666
City of Charlotte, Town of Matthews, Mecklenburg County (Unincorporated Areas)
Gar Creek:
Approximately 1,250 feet downstream of Beatties Ford Road | •664
Approximately 1,300 feet upstream of Kerns Road | •709
Mecklenburg County (Unincorporated Areas)
Goose Creek:
At the County boundary | •627
Approximately 1.2 miles upstream of Lawyers Road | •682
Town of Mint Hill, Mecklenburg County (Unincorporated Areas)
Gum Branch:
At the confluence with Long Creek | •641
Approximately 350 feet upstream of Old Plank Road | •712
City of Charlotte, Mecklenburg County (Unincorporated Areas)
Gutter Branch:
At the confluence with Long Creek | •649
Approximately 0.9 mile upstream of Oakdale Road | •721
Mecklenburg County (Unincorporated Areas)
Irvins Creek:
At the confluence with McAlpine Creek | •584
Approximately 350 feet upstream of Lawyers Road | •709
City of Charlotte, Town of Mint Hill, Town of Matthews, Mecklenburg County (Unincorporated Areas)
Irvins Creek Tributary 1:
At the confluence with Irvins Creek | •587
Approximately 800 feet upstream of Windsor Park bridge | •671
City of Charlotte, Town of Matthews
Irvins Creek Tibutary 2:
At the confluence with Irvins Creek | •670
Approximately 0.6 mile upstream of Lawyers Road | •700
Town of Mint Hill
Irwin Creek:
At the confluence with Sugar Creek | •607
Approximately 0.9 mile upstream of Nevin Road | •739
City of Charlotte
Irwin Creek Tibutary 1:
At the confluence with Irwin Creek | •615
Approximately 0.6 mile upstream of Fieldcrest Road | •647
City of Charlotte
Kennedy Branch:
At the confluence with Irwin Creek | •665
Approximately 180 feet upstream of Slater Road | •731
City of Charlotte
Kings Branch:
At the confluence with Sugar Creek | •552
Approximately 150 feet upstream of Interstate 77 | •631
City of Charlotte
Little Hope Creek:
Approximately 400 feet upstream of the confluence with Little Sugar Creek | •593
Approximately 200 feet upstream of Woodlawn Road | •627
City of Charlotte
Little Hope Creek Tributary:
At the confluence with Little Hope Creek | •615
Approximately 260 feet upstream of Bradbury Drive | •623
City of Charlotte
Little Paw Creek:
Approximately 1,300 feet upstream of the confluence with Lake Wylie | •573
Approximately 0.8 mile upstream of Mt. Olive Church Road | •655
Mecklenburg County (Unincorporated Areas)
Little Sugar Creek:
At the North Carolina/South Carolina State Border | •538
Approximately 750 feet upstream of Kentbrook Drive | •720
City of Charlotte, Mecklenburg County (Unincorporated Areas)
Long Creek:
At the confluence with Catawba River | •578
Approximately 0.46 mile upstream of Statesville Road | •754
City of Charlotte, Mecklenburg County (Unincorporated Areas)
Long Creek Tibutary 1:
At the confluence with Long Creek | •589
Approximately 0.6 mile upstream of confluence with Long Creek | •589
Mecklenburg County (Unincorporated Areas)
Long Creek Tributary 2:
At the confluence with Long Creek | •628
Approximately 1,950 feet upstream of the confluence with Long Creek | •652
City of Charlotte
Long Creek Tributary 3:
At the confluence with Long Creek | •639
Approximately 0.5 mile upstream of Gum Branch Road | •639
City of Charlotte
Mallard Creek:
Approximately 2.6 miles downstream of Pavilion Drive | •578
Approximately 450 feet upstream of Old Potters Road | •733
City of Charlotte, Mecklenburg County (Unincorporated Areas)
Mallard Creek Tributary:
At the confluence with Mallard Creek | •673
Approximately 1,500 feet upstream of Hubbard Road | •683
City of Charlotte
McAlpine Creek:
At the State boundary | •527
Approximately 0.5 mile upstream of Marlwood Circle | •690
City of Charlotte, Mecklenburg County (Unincorporated Areas)/Town of Mint Hill
McAlpine Creek: Tributary 1:
At the confluence with McAlpine Creek | •539
Approximately 0.7 mile upstream of U.S. Highway 521 | •555
City of Charlotte, Mecklenburg County (Unincorporated Areas)
McAlpine Creek Tributary 1A:
At the confluence with McAlpine Creek Tributary 1 | •539
Approximately 500 feet upstream of Ballantyne Commons Parkway | •568
Mecklenburg County (Unincorporated Areas)
McAlpine Creek Tributary 3:
At the confluence with McAlpine Creek: | •561
Approximately 550 feet upstream of Providence Road | •596
City of Charlotte
McAlpine Creek Tributary 6:
At the confluence with McAlpine Creek | •668
Approximately 1.1 miles upstream of the confluence with McAlpine Creek | •702
City of Charlotte, Mecklenburg County (Unincorporated Areas)
McCullough Creek:
At the confluence with Sugar Creek | •540
Approximately 450 feet upstream of Nations Ford Road | •565
City of Charlotte, Mecklenburg County (Unincorporated Areas)
McDowell Creek:
At the confluence with Mountain Island Lake | •655
Approximately 400 feet upstream of Statesville Road | •741
Towns of Huntersville and Cornelius, Mecklenburg County (Unincorporated Areas)
McDowell Creek Tributary 1
At the confluence with McDowell Creek | •665
Approximately 0.7 mile upstream of McIlwaine Road | •671
Mecklenburg County (Unincorporated Areas)
McDowell Creek Tributary 2:
At the confluence with McDowell Creek | •666
Approximately 0.5 mile upstream of the confluence with McDowell Creek | •668
Mecklenburg County (Unincorporated Areas)
McIntyre Creek:
Approximately 250 feet upstream of the confluence with Long Creek | •662
Approximately 520 feet upstream of Lawnmeadow Drive | •745
City of Charlotte, Mecklenburg County (Unincorporated Areas)
McKee Creek:
Approximately 1,650 feet downstream of Reedy Creek Road | •602
Approximately 600 feet upstream of Denbur Drive | •662
Mecklenburg County (Unincorporated Areas)
McMullen Creek:
At the confluence with McAlpine Creek | •534
Approximately 0.8 mile upstream of Addison Drive | •685
City of Charlotte, Town of Pineville, Mecklenburg County (Unincorporated Areas)
McMullen Creek Tributary:
At the confluence with McMullen Creek | •667
Approximately 150 feet upstream of S. Sharon Amity Road | •687
City of Charlotte
North Prong Clarke Creek:
At the confluence with Clarke Creek | •637
Approximately 1,500 feet upstream of Ramah Church Road | •685
Town of Huntersville, Mecklenburg County (Unincorporated Areas)
Paw Creek:
At First Norfolk Southern Railroad Crossing | •572
Approximately 0.06 mile upstream of Second Norfolk Southern Railroad Crossing | •717
City of Charlotte, Mecklenburg County (Unincorporated Areas)
Paw Creek Tributary:
At the confluence with Paw Creek | •607
Approximately 0.8 mile upstream of the confluence with Paw Creek | •655
Mecklenburg County (Unincorporated Areas)
Paw Creek Tributary 1A:
At the confluence with Paw Creek | •647
Approximately 50 feet upstream of Freedom Drive | •674
City of Charlotte
Polk Ditch:
At the confluence with Walker Branch | •569
Approximately 300 feet upstream of Highway 49 | •602
City of Charlotte, Mecklenburg County (Unincorporated Areas)
Ramah Creek:
At the confluence with Clarke Creek | •630
Approximately 300 feet upstream of Highway 73 | •722
Mecklenburg County (Unincorporated Areas)
Rea Branch:
At the confluence with McAlpine Creek | •547
Approximately 210 feet upstream of Sequoia Red Lane | •568
City of Charlotte
Reedy Creek:
Approximately 0.4 mile downstream of Reedy Creek Road | •608
Approximately 0.75 mile upstream of Plaza Road Extension | •664
City of Charlotte, Mecklenburg County (Unincorporated Areas)
Reedy Creek Tributary 1:
At the County boundary | •625
Approximately 1,680 feet upstream of County boundary | •634
Mecklenburg County (Unincorporated Areas)
Reedy Creek Tributary 2:
At the confluence with Reedy Creek | •626
Approximately 1.2 miles upstream of Robinson Church Road | •664
Mecklenburg County (Unincorporated Areas)
Reedy Creek Tributary 3:
At the confluence with Reedy Creek | •639
Approximately 100 feet upstream of Chapparall Lane | •710
City of Charlotte, Mecklenburg County (Unincorporated Areas)
Rocky Branch:
At the confluence with Four Mile Creek | •558
Approximately 700 feet upstream of Providence Road | •627
City of Charlotte
Rocky River:
Approximately 250 feet upstream of the confluence of West Branch Rocky River | •647
Approximately 2.3 miles upstream of East Rocky River Road | •687
Town of Davidson, Mecklenburg County (Unincorporated Areas)
Rocky River Tributary:
Approximately 560 feet downstream of Interstate 85 | •604
Approximately .5 mile upstream of Interstate 85 | •622
Mecklenburg County (Unincorporated Areas)
Sardis Branch:
At the confluence with McAlpine Creek | •573
Approximately 810 feet upstream of Sardis Road | •636
City of Charlotte, Mecklenburg County (Unincorporated Areas)
Sherman Branch:
At the confluence with Clear Creek | •571
Approximately 0.5 mile upstream of Cabarrus Road | •614
Mecklenburg County (Unincorporated Areas)
Sixmile Creek:
At the Lancaster County/South Carolina boundary | •575
Approximately 0.6 mile upstream of Tiley Morris Road | •664
City of Charlotte, Mecklenburg County (Unincorporated Areas)
South Prong Clarke Creek:
At the confluence with Clarke Creek | •637
Approximately 1.4 miles upstream of Asbury Chapel Road | •676
Mecklenburg County (Unincorporated Areas)
South Prong West Branch Rocky River:
At the confluence with West Branch Rocky River | •656
Approximately 1.7 miles upstream of Davidson-Concorde Road | •706
Town of Davidson, Mecklenburg County (Unincorporated Areas)
South Prong West Branch Rocky River Tributary:
At the confluence with South Prong West Branch Rocky River | •680
Approximately 0.9 mile upstream of the confluence with South Prong West Branch Rocky River | •702
Mecklenburg County (Unincorporated Areas)
Steele Creek:
At the State boundary | •569
Approximately 100 feet upstream of Brown-Grier Road | •628
City of Charlotte, Mecklenburg County (Unincorporated Areas)
Stevens Creek:
At the Union County boundary | •627
Approximately 0.5 mile upstream of Thompson Road | •682
Town of Mint Hill, Mecklenburg County (Unincorporated Areas)
Stevens Creek Tributary:
At the confluence with Stevens Creek | •643
Approximately 0.5 mile upstream of Thompson Road | •662
Town of Mint Hill
Stewart Creek:
At the confluence with Irwin Creek | •640
Approximately 650 feet upstream of Capps Hill Mine Road | •726
City of Charlotte, Mecklenburg County (Unincorporated Areas)
Stewart Creek Tributary 1:
At the confluence with Stewart Creek | •640
Approximately 1,500 feet upstream of Berryhill Road | •663
City of Charlotte
Stewart Creek Tributary 2:
At the confluence with Stewart Creek | •651
At the upstream side of Interstate 85 | •706
City of Charlotte
Stewart Creek Tibutary 3:
At the confluence with Stewart Creek | •675
Approximately 0.4 mile upstream of Hoskins Road | •724
City of Charlotte
Stony Creek:
At the confluence with Mallard Creek | •591
Approximately 0.5 mile upstream of Mallard Creek Road | •701
City of Charlotte, Mecklenburg County (Unincorporated Areas)
Stony Creek Tributary:
Approximately 650 feet upstream of the confluence with Stony Creek | •640
Approximately 1 mile upstream of Mallard Creek Road | •714
City of Charlotte, Mecklenburg County (Unincorporated Areas)
Stowe Branch:
At the confluence with Lake Wylie | •571
Approximately 140 feet upstream of Shopton Road | •598
Mecklenburg County (Unincorporated Areas)
Sugar Creek:
Approximately 0.8 mile downstream of the confluence of McCullough Branch | •538
At the confluence of Taggart Creek | •607
City of Charlotte, Town of Pineville, Mecklenburg County (Unincorporated Areas)
Swan Run:
At the confluence with McAlpine Creek | •561
Approximately 1 mile upstream of Sharon View Road | •597
City of Charlotte
Taggart Creek:
At the confluence with Sugar Creek | •607
At the upstream side of Denver Avenue | •682
City of Charlotte, Mecklenburg County (Unincorporated Areas)
Ticer Branch:
At the confluence with Paw Creek | •578
Approximately 0.5 mile upstream of Wilkinson Boulevard | •645
City of Charlotte, Mecklenburg County (Unincorporated Areas)
Toby Creek:
At the confluence with Mallard Creek | •599
Approximately 0.7 mile upstream of West Rocky River Road | •679
City of Charlotte
Torrence Creek:
At the confluence with McDowell Creek | •672
Approximately 0.5 mile upstream of I-77 | •733
Town of Huntersville, Mecklenburg County (Unincorporated Areas)
Torrence Creek Tributary 1:
At the confluence with Torrence Creek | •673
Approximately 1,000 feet upstream of Statesville Road | •727
Town of Huntersville, Mecklenburg County (Unincorporated Areas)
Torrence Creek Tributary 2:
At the confluence with Torrence Creek | •678
Approximately 400 feet upstream of I-77 | •721
Town of Huntersville, Mecklenburg County (Unincorporated Areas)
Walker Branch:
At the State boundary | •569
Approximately 0.3 mile upstream of Highway 49 | •596
Mecklenburg County (Unincorporated Areas)
Walker Branch Tributary:
At the confluence with Walker Branch | •583
Approximately 2,500 feet upstream of Steele Creek Road | •609
City of Charlotte, Mecklenburg County (Unincorporated Areas)
West Branch Rocky River:
Approximately 0.5 mile upstream of the confluence with Rocky River | •647
Approximately 1,200 feet upstream of Grey Road | •687
Town of Davidson, Mecklenburg County (Unincorporated Areas)
West Branch Rocky River Tributary:
At the confluence with West Branch Rocky River | •672
Approximately 900 feet upstream of Davis Road | •707
Town of Davidson, Mecklenburg County (Unincorporated Areas)
City of Charlotte
Maps available for inspection at the Mecklenburg County Stormwater Planning Department, 700 North Tryon Street, Charlotte, North Carolina.
———
Town of Cornelius
Maps available for inspection at the Cornelius Planning Department, 21445 Catawba Avenue, Cornelius, North Carolina.
———
Town of Davidson
Maps available for inspection at the Davidson Town Hall/Planning Department, 216 South Main Street, Davidson, North Carolina.
———
Town of Huntersville
Maps available for inspection at the Town of Huntersville Planning Department, 101 Huntersville “ Concord Road, Huntersville, North Carolina.
———
Town of Matthews
Maps available for inspection at the Matthews Town Hall, 232 Matthews Station Street, Matthews, North Carolina.
———
Mecklenburg County (Unincorporated Areas)
Maps available for inspection at the Mecklenburg County Storm Water Planning Department, 700 North Tryon Street, Charlotte, North Carolina.
———
Town of Mint Hill
Maps available for inspection at the Mint Hill Town Hall, 7151 Matthews Mint Hill Road, Mint Hill, North Carolina.
———
Town of Pineville
Maps available for inspection at the Mecklenburg County Storm Water Planning Department, 700 North Tryon Street, Charlotte, North Carolina.
———
Pitt County (FEMA Docket Nos. D-7536 and D-7562)
Back Swamp:
At the confluence with Swift Creek | •40
Approximately 1,600 feet upstream of Hanrahan Road | •63
Town of Grifton, Town of Ayden, Pitt County (Unincorporated Areas)
Bates Branch:
Approximately 425 feet downstream of Tucker Road | •43
Approximately 100 feet upstream of Tucker Road | •46
Village of Simpson
Bells Branch:
At the confluence with Hardee Creek | •20
Approximately 2,000 feet upstream of confluence | •20
City of Greenville, Pitt County (Unincorporated Areas)
Briery Swamp:
At the confluence with Tranaters Creek | •22
Approximately 0.4 mile upstream of Staton Mill Road | •61
Pitt County (Unincorporated Areas)
Briery Swamp Tributary:
At the confluence with Briery Swamp | •36
Approximately 0.8 mile upstream of NC 903 | •44
Pitt County (Unincorporated Areas)
Buckleberry Canal:
Approximately 0.5 mile upstream of Neuse River | •23
Approximately 1.0 mile upstream of Stokestown-St. Johns Road | •27
Pitt County (Unincorporated Areas)
Cheeks Mill Creek:
Approximately 0.5 mile upstream of the confluence with the Tar River | •37
A backwater area from a point approximately 1.8 miles upstream of the confluence with the Tar River | •39
Pitt County (Unincorporated Areas)
Chicod Creek:
At the confluence with the Tar River | •14
Approximately 1,250 feet upstream of South Grimesland Bridge Road | •39
Pitt County (Unincorporated Areas)
Clayroot Swamp:
At the confluence with Swift Creek | •19
Approximately 1,300 feet upstream of Voa Site B Road | •42
Pitt County (Unincorporated Areas)
Clayroot Swamp Tributary 1:
At the confluence with Clayroot Swamp | •34
Approximately 0.5 mile upstream of Stokestown-St. Johns Road | •46
Pitt County (Unincorporated Areas)
Conetoe Creek:
At the confluence with the Tar River | •31
At the confluence of Crisp Creek | •48
Pitt County (Unincorporated Areas)
Contentnea Creek:
At the confluence with Neuse River | •24
At the confluence of Little Contentnea Creek | •31
Town of Grifton, Pitt County (Unincorporated Areas)
Cow Swamp:
At the confluence with Chicod Creek | •19
Approximately 2.6 miles upstream of Black Jack-Simpson Road | •46
Pitt County (Unincorporated Areas)
Creeping Swamp:
At the confluence with Clayroot Swamp | •21
Approximately 0.9 mile upstream of Cayton Road | •47
Pitt County (Unincorporated Areas)
Crisp Creek:
At the confluence with Conetoe Creek | •48
Approximately 0.5 mile downstream of Interstate 64 | •51
Pitt County (Unincorporated Areas), Town of Bethel
Cross Swamp:
At the confluence with Cow Swamp | •33
Approximately 0.6 mile upstream of Black Jack-Grimesland Road | •37
Pitt County (Unincorporated Areas)
Flat Swamp:
At the confluence with Tranters Creek | •39
Approximately 0.4 mile upstream of James Road | •42
Fork Swamp:
At the confluence with Swift Creek | •34
Approximately 1,770 feet upstream of Fire Tower Road | •59
City of Greenville, Town of Winterville, Pitt County (Unincorporated Areas)
Fork Swamp Tributary 1:
At the confluence with Fork Swamp | •52
Approximately 0.7 mile upstream of Old Tar Road | •61
City of Greenville, Town of Winterville, Pitt County (Unincorporated Areas)
Fork Swamp Tributary 2:
At the confluence with Fork Swamp | •53
Approximately 0.8 mile upstream of the confluence with Fork Swamp | •58
City of Greenville, Pitt County (Unincorporated Areas)
Fornes Run:
At the confluence with Green Mill Run | •21
Approximately 1,850 feet upstream of the confluence with Green Mill Run | •27
City of Greenville
Green Mill Run:
At the confluence with the Tar River | •21
Approximately 270 feet upstream of Allen Road | •70
City of Greenville, Pitt County (Unincorporated Areas)
Grindle Creek:
Approximately 2.0 miles upstream of the confluence with the Tar River | •14
Approximately 500 feet upstream of U.S. 13/NC 11 | •39
Pitt County (Unincorporated Areas)
Grindle Creek Tributary:
At the confluence with Grindle Creek | •20
Approximately 0.6 mile upstream of railroad | •30
Pitt County (Unincorporated Areas)
Gum Swamp:
At the confluence with Swift Creek | •56
Approximately 1.1 miles upstream of the confluence with Swift Creek | •63
City of Greenville, Pitt County (Unincorporated Areas)
Hardee Creek:
At the confluence with the Tar River | •20
Approximately 1.1 miles upstream of Herman Garris Road | •57
City of Greenville, Pitt County (Unincorporated Areas)
Hardee Creek Tributary:
Approximately 810 feet upstream of the confluence with Hardee Creek | •37
Approximately 425 feet upstream of Joseph Street | •43
City of Greenville
Harris Mill Run:
At the confluence with the Tar River | •25
Approximately 0.4 mile upstream of Interstate 264 | •60
City of Greenville, Pitt County (Unincorporated Areas)
Horse Swamp:
At the confluence with Swift Creek | •49
Approximately 1,375 feet upstream of Jolly Road | •52
Pitt County (Unincorporated Areas)
Hunting Run:
At the confluence with Grindle Creek | •21
Approximately 1.5 miles upstream of the confluence with Grindle Creek | •29
Pitt County (Unincorporated Areas)
Indian Well Swamp:
At the confluence with Clayroot Swamp | •31
Approximately 0.4 mile upstream of Grover Hardee Road | •38
Pitt County (Unincorporated Areas)
Indian Well Swamp Tributary:
At the confluence with Indian Well Swamp | •37
Approximately 800 feet upstream of Stanley Road | •42
Pitt County (Unincorporated Areas)
Island Swamp:
At the confluence with Chicod Creek | •35
Approximately 0.9 mile upstream of South Grimesland Bridge Road | •44
Pitt County (Unincorporated Areas)
Jacob Branch:
Approximately 0.1 mile downstream of Stantonsburg Road | •64
Approximately 0.4 mile upstream of Hog Market Road | •83
Pitt County (Unincorporated Areas)
Johnsons Mill Run:
At the confluence with the Tar River | •25
Approximately 80 feet downstream of Staton House Road | •32
Pitt County (Unincorporated Areas), City of Greenville
Johnsons Mill Run Tributary:
At the confluence with Johnsons Mill Run | •26
Approximately 900 feet downstream of Barrus Construction Road | •31
Pitt County (Unincorporated Areas), City of Greenville
Juniper Branch:
At the confluence with Chicod Creek | •15
Approximately 0.4 mile upstream of Ivy Road | •47
Pitt County (Unincorporated Areas)
Kitten Creek:
At the confluence with Otters Creek | •36
Approximately 1.6 miles upstream of Dilda Church Road | •77
Pitt County (Unincorporated Areas), Town of Fountain
Langs Mill Run:
Approximately 125 feet upstream of Stantonsburg Road | •64
At County boundary | •95
Town of Fountain, Town of Farmville, Pitt County (Unincorporated Areas)
Lateral No. 1:
Approximately 150 feet upstream of the confluence with Parkers Creek | •23
At Interstate 13 | •24
City of Greenville
Lawrence Run:
At the confluence with Tyson Creek | •33
Approximately 1.8 miles upstream of NC 121 | •58
Pitt County (Unincorporated Areas)
Little Contentnea Creek:
At the confluence of Contentnea Creek | •31
Approximately 500 feet upstream of Highway 264 | •73
Pitt County (Unincorporated Areas)
Little Contentnea Creek Tributary 1:
Approximately 0.5 mile upstream of the confluence with Little Contentnea Creek | •33
Approximately 1,275 feet upstream of North Carolina State Route 102 | •42
Pitt County (Unincorporated Areas)
Little Contentnea Creek Tributary 2:
At the confluence with Little Contentnea Creek | •50
Approximately 0.6 mile upstream of Nash Joyner Road | •68
Pitt County (Unincorporated Areas)
Little Contentnea Creek Tributary 3:
At the confluence with Little Contentnea Creek Tributary 2 | •61
Approximately 200 feet downstream of Bell Arthur Road | •68
Pitt County (Unincorporated Areas)
Meadow Branch:
At the confluence with Briery Swamp | •22
Approximately 0.7 mile upstream of Sheppard Mill Road | •47
Pitt County (Unincorporated Areas)
Middle Swamp Creek:
Approximately 0.5 mile downstream of U.S. Highway 258 | •59
Approximately 175 feet upstream of U.S. 264 Alternate | •76
Town of Farmville, Pitt County (Unincorporated Areas)
Mill Branch:
At the confluence with Whichard Branch | •41
Approximately 0.4 mile upstream of Staton Mill Road | •59
Pitt County (Unincorporated Areas)
Neuse River:
Approximately 1,500 feet southwest of Cannon Price Road along the Pitt/Craven County boundary | •22
At the confluence with Contentnea Creek | •24
Pitt County (Unincorporated Areas)
North Fork Green Mill Run:
Approximately 175 feet upstream of the confluence with Green Mill Run | •56
Approximately 1,100 feet upstream of Spring Forest Road | •69
City of Greenville, Pitt County (Unincorporated Areas)
Otter Creek:
At the confluence with the Tar River | •33
Approximately 0.8 mile downstream of Edgewood Church Road | •51
Pitt County (Unincorporated Areas), Town of Falkland
Otter Creek Tributary:
At the confluence with Otter Creek | •48
Approximately 200 feet upstream of the confluence with Otter Creek | •48
Pitt County (Unincorporated Areas)
Parkers Creek:
At the confluence with the Tar River | •22
Approximately 800 feet upstream of Staton Road | •26
City of Greenville
Pea Branch:
At the confluence with Tranters Creek | •15
Approximately 400 feet upstream of Satterthwaite Road | •26
Pitt County (Unincorporated Areas)
Pinelog Branch:
At the confluence with Little Contentnea Creek | •52
At the downstream side of Railroad | •52
Pitt County (Unincorporated Areas)
Poley Branch:
At the confluence with Tranters Creek | •15
Approximately 2,000 feet upstream of Sheppard Mill Road | •25
Pitt County (Unincorporated Areas)
Swift Creek:
At the confluence of Clayroot Swamp | •19
Approximately 0.4 mile upstream of Davenport Farm Road | •59
City of Greenville, Towns of Winterville and Ayden, Pitt County (Unincorporated Areas)
Swift Creek Tributary 1:
At the confluence with Swift Creek | •47
Approximately 525 feet upstream of Jolly Road | •56
Town of Ayden, Pitt County (Unincorporated Areas)
Swift Creek Tributary 2:
At the confluence with Swift Creek | •53
Approximately 0.6 mile upstream of Red Forbes Road | •61
Town of Winterville, Pitt County (Unincorporated Areas)
Tar River:
Approximately 1.8 miles upstream of the confluence with Bear Creek | •9
At the county boundary | •37
Pitt County (Unincorporated Areas), Town of Falkland, City of Greenville
Thomas Canal:
At the confluence with Conetoe Creek | •46
Approximately 900 feet upstream of Bowers Road | •49
Pitt County (Unincorporated Areas) Town of Bethel
Thorofare Swamp:
At the confluence with Clayroot Swamp | •37
Approximately 1.3 miles upstream of confluence with Clayroot Swamp | •41
Pitt County (Unincorporated Areas)
Tranters Creek:
Approximately 2.5 miles upstream of the confluence with the Tar River | •9
Approximately 1.3 miles upstream of the confluence with Flat Swamp | •49
Pitt County (Unincorporated Areas)
Tributary to Little Contentnea Creek Tributary 1:
At confluence with Little Contentnea Creek Tributary 1 | •33
Approximately 0.5 mile upstream of the confluence with Little Contentnea Creek Tributary 1 | •39
Pitt County (Unincorporated Areas)
Tyson Creek:
At the confluence with the Tar River | •30
Approximately 1.3 miles upstream of Seven Pines Road | •65
Pitt County (Unincorporated Areas), Town of Falkland
Ward Run:
At the confluence with Little Contentnea Creek | •81
At County boundary | •92
Pitt County (Unincorporated Areas)
Whichard Branch:
At the confluence with Grindle Creek | •32
Approximately 0.8 mile upstream of David Nobles Road | •53
Pitt County (Unincorporated Areas)
Town of Ayden
Maps available for inspection at the Ayden Town Planning Department, 4061 East Avenue, Ayden, North Carolina.
———
Town of Bethel
Maps available for inspection at County Planning Department, Development Services Building, 1717 West 5th Street, Greenville, North Carolina.
———
Town of Falkland
Maps available for inspection at the Town of Falkland Community Building, Main Street, Falkland, North Carolina.
———
Town of Farmville
Maps available for inspection at the Farmville Town Hall, 200 North Main Street, Farmville, North Carolina.
———
Town of Fountain
Maps available for inspection at the Fountain Town Hall, 6777 West Wilson, Fountain, North Carolina.
———
City of Greenville
Maps available for inspection at the Greenville Community Planning Development Building, 306 South Green Street, Greenville, North Carolina.
———
Town of Grifton
Maps available for inspection at the Grifton Town Hall, 528 Queen Street, Grifton, North Carolina.
———
Pitt County Unincorporated Areas
Maps available for inspection at the Pitt County Planning Department, Development Services Building, 1717 West 5th Street, Greenville, North Carolina.
———
Village of Simpson
Maps available for inspection at the Pitt County Planning Department, Development Services Building, 1717 West 5th Street, Greenville, North Carolina.
———
Town of Winterville
Maps available for inspection at the Winterville Planning Department, 2571 Railroad Street, Winterville, North Carolina.
NEW YORK
Schoharie County (FEMA Docket No. D-7562)
Cobleskill Creek:
At the confluence with Schoharie Creek | •596
Approximately 0.51 mile upstream of State Route 7 | •927
Town of Schoharie, Town and Village of Cobleskill, Town of Richmondville, Town of Esperance
Fly Creek:
At the confluence with Schoharie Creek | •591
Approximately 1,870 feet upstream of U.S. Route 20 | •710
Town of Esperance
Fox Creek:
Approximately 0.6 mile upstream of the confluence with Schoharie Creek | •606
Approximately 1,850 feet downstream of Debritko Road | •653
Town of Schoharie, Village of Schoharie, Town of Wright
Line Creek:
At the confluence with Schoharie Creek | •642
Approximately 1,655 feet upstream of West Middleburgh Road | •788
Town of Middleburgh, Town of Fulton
Mill Creek:
At the confluence with Cobleskill Creek | •899
Approximately 0.63 mile upstream of Quarry Street | •1,067
Town and Village of Cobleskill
Schoharie Creek:
At downstream Schoharie County boundary | •541
Approximately 0.45 mile upstream of Town of Fulton and Middleburgh corporate limits | •668
Town and Village of Esperance, Town of Fulton, Town and Village of Middleburgh, Town and Village of Schoharie
School House Creek:
At confluence with Stoney Creek | •638
Approximately 0.61 mile upstream of Straub Lane | •792
Village and Town of Middleburgh
Stoney Creek:
At confluence with Schoharie Creek | •638
Approximately 1,620 feet upstream of U.S. Route 145 | •758
Village and Town of Middleburgh
Town of Cobleskill
Maps available for inspection at the Cobleskill Town Office, 2668 State Route 7, Suite 37, Cobleskill, New York.
———
Village of Cobleskill
Maps available for inspection at the Cobleskill Village Planning Department, 378 Mineral Springs Road, Suite 5, Cobleskill, New York.
———
Town of Esperance
Maps available for inspection at the Esperance Town Hall, 104 Charleston Street, Esperance, New York.
———
Village of Esperance
Maps available for inspection at the Esperance Village Hall, Church Street, Esperance, New York.
———
Town of Fulton
Maps available for inspection at the Fulton Town Office, 1168 Bear Ladder Road, West Fulton, New York.
———
Town of Middleburgh
Maps available for inspection at the Middleburgh Town Hall, 146 Railroad Avenue, Middleburgh, New York.
———
Village of Middleburgh
Maps available for inspection at the Middleburgh Village Municipal Building, 309 Main Street, Middleburgh, New York.
———
Town of Richmondville
Maps available for inspection at the Richmondville Town Clerk's Office, 340 Main Street, Richmondville, New York.
———
Town of Schoharie
Maps available for inspection at the Schoharie Town Office, 289 Main Street, Schoharie, New York.
———
Village of Schoharie
Maps available for inspection at the Schoharie Village Office, 256 Main Street, Schoharie, New York.
———
Town of Wright
Maps available for inspection at the Wright Town Hall, 105 School Street, Suite 1, Gallupville, New York.

(Catalog of Federal Domestic Assistance No. 83.100, “Flood Insurance”)

Dated: November 18, 2003.
Anthony S. Lowe,
Mitigation Division Director, Emergency Preparedness and Response Directorate.

[FR Doc. 03-29796 Filed 11-28-03; 8:45 am]

BILLING CODE 6718-04-P